DEPARTMENT OF LABOR

Office of the Secretary

Submission for OMB Review; Comment Request

November 30, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Noise.

OMB Number: 1218-0048.

Affected Public: Business or other for-profit; Federal Government; and State, Local or Tribal Government.

Frequency: On occasion.

Number of Respondents: 379,512.

Number of Annual Responses: 17,982,447.

Estimated Time Per Response: Varies from 2-minutes to notify employees when noise exposure exceeds the 8-hour time-weight average of 85 decibels to 1-hour for employees in small establishments to take audiometric examinations.

Total Burden Hours: 5,175,645.

Total Annualized Capital/Startup Costs: $0.

Total Annual Costs (operating/maintaining systems or purchasing services: $98,815,961.

Description: The purpose of the occupational noise exposure Standard (29 CFR 1910.95) and its information collection requirements are to provide protection to employees from adverse health effects associated with occupational exposure to noise. The Standard requires employers to establish and maintain accurate records of employee exposure to noise and audiometric testing performed in compliance to this Standard.

Type of Review: Extension of a currently approved collection.

Agency: Occupational Safety and Health Administration (OSHA).

Title: Access to Employee Exposure and Medical Records.

OMB Number: 1218-0065.

Affected Public: Business or other for-profit; Federal Government; and State, Local or Tribal Government.

Frequency: On occasion.

Number of Respondents: 763,734.

Number of Annual Responses: 5,030,002.

Estimated Time Per Response: 8-minutes.

Total Burden Hours: 610,136.

Total Annualized Capital/Startup Costs: $0.

Total Annual Costs (operating/maintaining systems or purchasing services: $10.00.

Description: 29 CFR 1910.1020 requires employers to preserve and provide access to records associated with employee exposure to toxic chemicals and harmful physical agents. Employee records and access to them are critically important to the detection, treatment, and prevention of occupational illness and disease.

Type of Review: Extension of a currently approved collection.

Agency: Occupational Safety and Health Administration (OSHA).

Title: Formaldehyde.

OMB Number: 1218-0145.

Affected Public: Business or other for-profit; Federal Government; and State, Local or Tribal Government.

Frequency: On occasion.

Number of Respondents: 113,150.

Number of Annual Responses: 1,569,329.

Estimated Time Per Response: Varies from 5-minutes for an employer to maintain exposure-monitoring and medical records for each employee, to 1-hour for an employee to receive a medical exam.

Total Burden Hours: 591,079.

Total Annualized Capital/Startup Costs: $0.

Total Annual Costs (operating/maintaining systems or purchasing services): $56,531,328.

Description: The Formaldehyde Standard (29 CFR 1910.1048) and its information collection requirements are designed to provide protection for employees from the adverse health effects associated with occupational exposure to formaldehyde. The Standard requires employers to monitor employee exposure and provide notification to employees of their exposure. Employers are required to make available medical surveillance to employees. Employers are also required to communicate hazards associated with exposure to formaldehyde through signs, labels, and employee training.

Type of Review: Extension of a currently approved collection.

Agency: Occupational Safety and Health Administration (OSHA).

Title: Definition and Requirements for a Nationally Recognized Testing Laboratory.

OMB Number: 1218-0147.

Affected Public: Business or other for-profit; Not-for-profit institutions; and State, Local or Tribal Government.

Frequency: On occasion.

Number of Respondents: 58.

Number of Annual Responses: 58.

Estimated Time Per Response: 23-hours.

Total Burden Hours: 1,345.

Total Annualized Capital/Startup Costs: $0.

Total Annual Costs (operating/maintaining systems or purchasing services): $0.

Description: A number of OSHA's standards require certain equipments to be “tested” (or “approved”) by a “nationally recognized testing laboratory” (NRTL). Pursuant to 29 CFR 1910.7, an organization seeking to perform this testing (or approval) must be “recognized” by OSHA and must apply to the OSHA NRTL Program for recognition. Recognition is granted after OSHA determines that the organization meets certain requirements.

Type of Review: Extension of a currently approved collection.

Agency: Occupational Safety and Health Administration (OSHA).

Title: Bloodborne Pathogens.

OMB Number: 1218-0180.

Affected Public: Business or other for-profit; Federal Government; and State, Local or Tribal Government.

Frequency: On occasion.

Number of Respondents: 113,150.

Number of Annual Responses: 1,569,329.

Estimated Time Per Response: Varies from 1-minute to maintain in employee's training record, to 105-minutes for an employee to receive a Hepatitis B vaccination (HBV) and post-vaccination screening for the HBV.

Total Burden Hours: 12,178,601.

Total Annualized Capital/Startup Costs: $0.

Total Annual Costs (operating/maintaining systems or purchasing services): $30,415,000.

Description: The Bloodborne Pathogens Standard (29 CFR 1910.1030) is designed to prevent occupational exposure to bloodborne pathogens. The Standard's information collection requirements are used by employers to implement required protective actions. OSHA compliance officers will use some of the information for enforcement purposes.

Type of Review: Extension of a currently approved collection.

Agency: Occupational Safety and Health Administration (OSHA).

Title: Lead in Construction.

OMB Number: 1218-0189.

Affected Public: Business or other for-profit; Federal Government; and State, Local or Tribal Government.

Frequency: On occasion.

Number of Respondents: 147,073.

Number of Annual Responses: 6,155,640.

Estimated Time Per Response: Varies from 5-minutes for a supervisor to provide OSHA with written compliance plans, training-program materials, and other records during an inspection, to 2.44-hours for a supervisor to write a compliance plan.

Total Burden Hours: 1,697,383.

Total Annualized Capital/Startup Costs: $0.

Total Annual Costs (operating/maintaining systems or purchasing services): $69,083,073.

Description: 29 CFR 1926.62 requires employers to train employees about the hazards of lead, monitor employee exposure, provide surveillance and maintain accurate records of employee exposure. These records are used by employers, employees, physicians, and the Government to ensure that employees are not harmed by occupational exposure lead.

Type of Review: Extension of a currently approved collection

Agency: Occupational Safety and Health Administration (OSHA).

Title: Construction Fall Protection Plans and Records.

OMB Number: 1218-0197.

Affected Public: Business or other for-profit; Federal Government; and State, Local or Tribal Government.

Frequency: On occasion.

Number of Respondents: 100,000.

Number of Annual Responses: 100,000.

Estimated Time Per Response: Variable (5-minutes to certify a safety net; 1-hour to develop and write a fall-protection plan; and 5-minutes to certify training).

Total Burden Hours: 744,480.

Total Annualized Capital/Startup Costs: $0.

Total Annual Costs (operating/maintaining systems or purchasing services): $0.

Description: The construction fall protection plan and certification records required by 29 CFR 1926.502 and the related training requirements required by 29 CFR 1926.503 are needed to help employees identify fall hazards and to know which protective measures are to be used in order to protect them from workplace fall hazards.

Ira L. Mills,
Departmental Clearance Officer.

[FR Doc. 00-31043 Filed 12-5-00; 8:45 am]

BILLING CODE 4510-26-M